DEPARTMENT OF ENERGY

Federal Energy Regulatory Commission

Combined Notice of Filings #2

Take notice that the Commission received the following electric rate filings:

Docket Numbers: ER18-2406-001.

Applicants: Allegheny Energy Supply Company, LLC.

Description: Compliance filing: Informational Filing re Planned Transfer to be effective N/A.

Filed Date: 2/5/19.

Accession Number: 20190205-5070.

Comments Due: 5 p.m. ET 2/26/19.

Docket Numbers: ER19-967-001.

Applicants: Fairless Energy, L.L.C.

Description: Tariff Amendment: Supplement to Notice of Succession to be effective 12/17/2018.

Filed Date: 2/5/19.

Accession Number: 20190205-5059.

Comments Due: 5 p.m. ET 2/26/19.

Docket Numbers: ER19-968-001.

Applicants: Manchester Street, L.L.C.

Description: Tariff Amendment: Supplement to Notice of Succession to be effective 12/14/2018.

Filed Date: 2/5/19.

Accession Number: 20190205-5058.

Comments Due: 5 p.m. ET 2/26/19.

Docket Numbers: ER19-984-000.

Applicants: Louisville Gas and Electric Company.

Description: § 205(d) Rate Filing: Att. O Note K Revision to be effective 6/1/2019.

Filed Date: 2/5/19.

Accession Number: 20190205-5004.

Comments Due: 5 p.m. ET 2/26/19.

Docket Numbers: ER19-985-000.

Applicants: Southern California Edison Company.

Description: § 205(d) Rate Filing: LGIA Pastoria Solar Project SA Nos. 228 to be effective 2/6/2019.

Filed Date: 2/5/19.

Accession Number: 20190205-5085.

Comments Due: 5 p.m. ET 2/26/19.

Docket Numbers: ER19-986-000.

Applicants: PJM Interconnection, L.L.C.

Description: § 205(d) Rate Filing: Original WMPA, SA No. 5281; Queue No. AD1-044 to be effective 1/9/2019.

Filed Date: 2/5/19.

Accession Number: 20190205-5114.

Comments Due: 5 p.m. ET 2/26/19.

Docket Numbers: ER19-987-000.

Applicants: Crystal Lake Wind Energy I, LLC.

Description: Baseline eTariff Filing: Crystal Lake Wind Energy I, LLC Application for Market-Based Rates to be effective 4/6/2019.

Filed Date: 2/5/19.

Accession Number: 20190205-5115.

Comments Due: 5 p.m. ET 2/26/19.

Docket Numbers: ER19-988-000.

Applicants: Fairchild Energy, LLC.

Description: Tariff Cancellation: Cancellation of MBR Tariff to be effective 2/5/2019.

Filed Date: 2/5/19.

Accession Number: 20190205-5118.

Comments Due: 5 p.m. ET 2/26/19.

Docket Numbers: ER19-989-000.

Applicants: PJM Interconnection, L.L.C.

Description: § 205(d) Rate Filing: Original WMPA SA No. 5283; Queue No. AD1-045 to be effective 1/9/2019.

Filed Date: 2/5/19.

Accession Number: 20190205-5119.

Comments Due: 5 p.m. ET 2/26/19.

Docket Numbers: ER19-990-000.

Applicants: PJM Interconnection, L.L.C.

Description: § 205(d) Rate Filing: Original WMPA, SA No. 5282; Queue No. AD1-046 to be effective 1/9/2019.

Filed Date: 2/5/19.

Accession Number: 20190205-5120.

Comments Due: 5 p.m. ET 2/26/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 5, 2019.
Kimberly D. Bose,
Secretary.

[FR Doc. 2019-02002 Filed 2-11-19; 8:45 am]

BILLING CODE 6717-01-P